DEPARTMENT OF DEFENSE

Office of the Secretary

[Docket ID: DoD-2022-OS-0062]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by January 12, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Independent Analysis and Recommendations on Domestic Abuse in the Armed Forces: Expert Panel(s); OMB Control Number 0704-IADA.

Type of Request: New.

Number of Respondents: 135.

Responses per Respondent: 1.

Annual Responses: 135.

Average Burden per Response: 3.5 hours.

Annual Burden Hours: 472.5.

Needs and Uses: DoD has commissioned the RAND Corporation (RAND) to conduct a Congressionally mandated study (section 549C of the Fiscal Year 2021 National Defense Authorization Act) to provide independent analyses and recommendations for improving domestic abuse prevention and response in the U.S. armed forces. This project is required by statute and will support: (a) High Congressional interest, (b) the current administration's priority to address gender-based violence, and (c) implementation of recommendations contained in the draft Government Accountability Office Report 21-289, released March 19, 2021. Data collection is necessary to find sustainable solutions to decrease incidents and prevent domestic abuse before it occurs. The subtopics for the additional expert panels will include:

A. Age-appropriate training and education programs for elementary and secondary school students, designed to assist such students in learning positive relationship behaviors in families and with intimate partners.

B. Means of improving access to resources for survivors who have already experienced domestic abuse, including survivors who are geographically relocating.

C. Strategies to prevent domestic abuse by training, educating, and assigning prevention-related responsibilities to military leaders; medical, behavioral, and mental health service providers; staff from domestic abuse and related prevention programs; and others with relevant responsibilities, such as law enforcement.

Respondents will be responding to the information collection to apply their expertise and help improve domestic abuse prevention and response in the military.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: December 8, 2022.
Kayyonne T. Marston,
Alternate OSD Federal Register Liaison Officer, Department of Defense.

[FR Doc. 2022-26983 Filed 12-12-22; 8:45 am]

BILLING CODE 5001-06-P